DEPARTMENT OF THE INTERIOR

Bureau of Land Management

[ID-200-1120-PH]

Notice of February Resource Advisory Council Meeting To Be Held in Twin Falls District, ID

SUMMARY: This notice announces the intent to hold a Resource Advisory Council (RAC) meeting for in the Twin Falls District of Idaho on Wednesday, February 9, 2005. The meeting will be held in the Oak Room at the Red Lion Canyon Springs Hotel, 1357 Blue Lakes Boulevard, in Twin Falls, Idaho.

SUPPLEMENTARY INFORMATION: The Twin Falls District Resource Advisory Council consists of the standard fifteen members residing throughout south central Idaho. The February meeting will be the second meeting for the new group, formed after Idaho's BLM Districts separated from three to four in October of 2004. Meeting agenda items will include updates on planning efforts, including the Craters of the Moon Management Plan and Fire Management Direction Amendment; Shoshone/Bannock tribal perspectives; energy development within the Burley and Shoshone Field Offices in the Twin Falls District; sage grouse status and statewide plan; and the wild horse program in the Jarbidge Field Office.

FOR FURTHER INFORMATION CONTACT: Sky Buffat, Twin Falls District, Idaho, 378 Falls Avenue, Twin Falls, Idaho 83301, (208) 732-7307.

Dated: December 20, 2004.
Howard Hedrick,
Twin Falls District Manager.

[FR Doc. 05-7 Filed 1-3-05; 8:45 am]

BILLING CODE 4310-GG-P